DEPARTMENT OF HEALTH AND HUMAN SERVICES

Centers for Disease Control and Prevention

Ethics Subcommittee, Advisory Committee to the Director, Centers for Disease Control and Prevention (CDC); Meeting

In accordance with section 10(a)(2) of the Federal Advisory Committee Act (Pub. L. 92-463), the Centers for Disease Control and Prevention announce the following Subcommittee meeting.

Name: Ethics Subcommittee, Advisory Committee to the Director.

Time and Date: 12 p.m.-1:30 p.m., EDT, Thursday, September 25, 2008.

Place: This meeting will be held by conference call. The call in number is (866) 919-3560 and entering code 4168828.

Status: Open to the public. The public is welcome to comment during the public comment period which is tentatively scheduled from 1 p.m.-1:15 p.m.

Purpose: The Ethics Subcommittee will provide counsel to the ACD, CDC regarding a broad range of public health ethics questions and issues arising from programs, scientists and practitioners.

Matters To Be Discussed: Agenda items will include review of ethics guidance for public health emergency preparedness and response.

For Further Information Contact: For more information about this meeting contact Drue Barrett, PhD., Designated Federal Official, Ethics Subcommittee, CDC, 1600 Clifton Road, NE., M/S D-50, Atlanta, Georgia 30333, Telephone (404)639-4690, e-mail: dbarrett@cdc.gov.

The Director, Management Analysis and Services Office, has been delegated the authority to sign Federal Register notices pertaining to announcements of meetings and other committee management activities, for both the Centers for Disease Control and Prevention and the Agency for Toxic Substances and Disease Registry.

Dated: September 4, 2008.
Elaine L. Baker,
Director, Management Analysis and Services Office, Centers for Disease Control and Prevention.

[FR Doc. E8-20967 Filed 9-9-08; 8:45 am]

BILLING CODE 4163-18-P